SURFACE TRANSPORTATION BOARD

[Docket No. EP 290 (Sub-No. 5) (2021-1)]

Quarterly Rail Cost Adjustment Factor

AGENCY: Surface Transportation Board.

ACTION: Approval of rail cost adjustment factor.

SUMMARY: The Board has approved the first quarter 2021 Rail Cost Adjustment Factor (RCAF) and cost index filed by the Association of American Railroads. The first quarter 2021 RCAF (Unadjusted) is 1.040. The first quarter 2021 RCAF (Adjusted) is 0.434. The first quarter 2021 RCAF-5 is 0.410.

DATES: Applicability Date: January 1, 2021.

FOR FURTHER INFORMATION CONTACT: Pedro Ramirez, (202) 245-0333. Assistance for the hearing impaired is available through the Federal Relay Service at (800) 877-8339.

SUPPLEMENTARY INFORMATION: Additional information is contained in the Board's decision, which is available on our website, http://www.stb.gov. Copies of the decision may be purchased by contacting the Office of Public Assistance, Governmental Affairs, and Compliance at (202) 245-0238.

Decided: December 14, 2020.
By the Board, Board Members Begeman, Fuchs, and Oberman.
Jeffrey Herzig,
Clearance Clerk.

[FR Doc. 2020-27968 Filed 12-17-20; 8:45 am]

BILLING CODE 4915-01-P